DEPARTMENT OF EDUCATION

Notice of Proposed Information Collection Requests

AGENCY: Department of Education.

ACTION: Notice of proposed information collection requests.

SUMMARY: The Leader, Regulatory Information Management, Office of the Chief Information Officer, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by May 10, 2002. A regular clearance process is also beginning. Interested persons are invited to submit comments on or before June 25, 2002.

ADDRESSES: Written comments regarding the emergency review should be addressed to the Office of Information and Regulatory Affairs, Attention: Karen Lee, Desk Officer: Department of Education, Office of Management and Budget; 725 17th Street, NW, Room 10235, New Executive Office Building, Washington, DC 20503 or should be electronically mailed to the Internet address Karen_F._Lee@omb.eop.gov.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Leader, Information Management Group, Office of the Chief Information Officer, publishes this notice containing proposed information collection requests at the beginning of the Departmental review of the information collection. Each proposed information collection, grouped by office, contains the following: (1) Type of review requested, e.g., new, revision, extension, existing or reinstatement; (2) title; (3) summary of the collection; (4) description of the need for, and proposed use of, the information; (5) respondents and frequency of collection; and (6) reporting and/or Recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: April 23, 2002.
John D. Tressler,
Leader, Regulatory Information Management, Office of the Chief Information Officer.

Office of Elementary and Secondary Education

Type of Review: Revision.

Title: Indian Education Formula Grants to Local Educational Agencies (LEAs).

Abstract: Application for funding under the Indian Education Formula Grant Program to Local Educational Agencies. The application is used to determine applicant eligibility, amount of award, and appropriateness of project services for Indian students to be served. The application also includes the Indian Student Eligibility Certification Form that LEAs have parents complete to certify Indian student eligibility for the program.

Additional Information: The Department requests an emergency clearance for the Formula Grants to Local Educational Agencies (LEAs) Application (CFDA #84.060A) by May 10, 2002. Two new provisions in the No Child Left Behind Act neccessitate the revision of the existing information collection. One is the authority for LEAs, under Section 716 Integration of Services, to consolidate all funds for any Federal program exclusively serving Indian children or the funds reserved under any Federal program to exclusively serve Indian children under a statutory or administrative formula. The second new requirement in the legislation imposes a five percent limit on the use of grant funds for administrative costs. The program annually funds approximately 1,270 LEAs from July 1 to June 30. An emergency clearance is requested so that the revised applications may be completed and received from participating LEAs in time for the Department to process their funding by July 1. In our view, harm to the public would thus occur if this clearance is not approved in time.

Frequency: Annually.

Affected Public: State, Local, or Tribal Gov't, SEAs or LEAs.

Reporting and Recordkeeping Hour Burden:

Responses: 1,270.

Burden Hours: 25,825.

Requests for copies of the proposed information collection request may be accessed from http://edicsweb.ed.gov, by selecting “Browse Pending Collections” and clicking on link number. When you access the information collection, click on “Download Attachments” to view. Written requests for information should be addressed to Vivian Reese, Department of Education, 400 Maryland Avenue, SW, Room 4050, Regional Office Building 3, Washington, DC 20202-4651 or to the e-mail address vivian.reese@ed.gov. Requests may also be electronically mailed to the Internet address OCIO_RIMG@ed.gov or faxed to 202-708-9346. Please specify the complete title of the information collection when making your request.

Comments regarding burden and/or the collection activity requirements should be directed to Kathy Axt at her Internet address Kathy.Axt@ed.gov. Individuals who use a telecommunications device for the deaf (TDD) may call the Federal Information Relay Service (FIRS) at 1-800-877-8339.

[FR Doc. 02-10286 Filed 4-25-02; 8:45 am]

BILLING CODE 4000-01-P